NUCLEAR REGULATORY COMMISSION

[Docket No. 50-425]

Southern Nuclear Operating Company, Inc.; Notice of Consideration of Issuance of Amendment to Facility Operating License, Proposed No Significant Hazards Consideration Determination, and Opportunity for a Hearing

AGENCY: Nuclear Regulatory Commission.

ACTION: Notice of issuance; correction.

SUMMARY: This document corrects a notice appearing in the Federal Register on November 18, 2003 (68 FR 65092), that corrects the 30-day date for hearing request.

FOR FURTHER INFORMATION CONTACT: Frank Rinaldi, Office of Nuclear Reactor Regulation, U.S. Nuclear Regulatory Commission, Washington, DC 20555-0001; telephone (301) 415-1447, e-mail: FXR2@NRC.GOV.

SUPPLEMENTARY INFORMATION: On page 65093, in the first column, in the third complete paragraph, first line, it is corrected to read from “December 2, 2003” to “December 18, 2003”.

Dated in Rockville, Maryland, this 9th day of December, 2003.
For the Nuclear Regulatory Commission.
Frank Rinaldi,
Project Manager, Section 1, Project Directorate II, Division of Licensing Project Management, Office of Nuclear Reactor Regulation.

[FR Doc. 03-30959 Filed 12-15-03; 8:45 am]

BILLING CODE 7590-01-P